DEPARTMENT OF HEALTH AND HUMAN SERVICES

Health Resources and Services Administration

Agency Information Collection Activities: Proposed Collection: Comment Request

AGENCY: Health Resources and Services Administration, HHS.

ACTION: Correction.

SUMMARY: The Health Resources and Services Administration published an Agency Information Collection document in the Federal Register of June 20, 2011 (FR Doc. 2011-15194), on page 35900, regarding Bureau of Primary Health Care (BPHC) Uniform Data System (OMB No. 0915-0193).

FOR FURTHER INFORMATION CONTACT: Charles Daly, Public Health Analyst at 301-594-5110.

Correction

In the Federal Register issue of June 20, 2011, FR Doc. 2011-15194), on page 35900, second column, under the section Proposed Project: Bureau of Primary Health Care (BPHC) Uniform Data System (OMB No. 0915-0193-Revision), correct the first paragraph to read as follows:

The Uniform Data System (UDS) contains the annual reporting requirements for the cluster of primary care grantees funded by the Health Resources and Services Administration (HRSA) under the Health Center Program as authorized under section 330 of the Public Health Service Act, as amended. “FQHC Look-Alikes” are health centers that have been determined by HRSA to meet the requirements of the Health Center Program but which do not receive a grant. The UDS includes reporting requirements for grantees of the following primary care programs: Community Health Centers, Migrant Health Centers, Health Care for the Homeless, and Public Housing Primary Care.

On page 35900, second column, second paragraph, correct the fifth sentence to read as follows:

These new measures are included in the UDS data collection request in order to allow advance time for health centers and FQHC Look-Alikes to change data collection systems.

On page 35900, please correct the burden table as follows:

Type of report | Number of respondents | Responses per respondent | Hours per response | Total burden hours
Universal report | 1,287 | 1 | 82 | 105,534
Grant report | 328 | 1 | 18 | 5,904
Total | 1,615 |  |  | 111,438

Dated: June 23, 2011.
Reva Harris,
Acting Director, Division of Policy and Information Coordination.

[FR Doc. 2011-16478 Filed 6-29-11; 8:45 am]

BILLING CODE 4165-15-P